DEPARTMENT OF HEALTH AND HUMAN SERVICES

Centers for Disease Control and Prevention

The National Center for Chronic Disease Prevention and Health Promotion

In accordance with section 10(a)(2) of the Federal Advisory Committee Act (Pub. L. 92-463), the Centers for Disease Control and Prevention announces the following meeting.

Name: Interagency Committee on Smoking and Health.

Time and Date: 9 a.m.-4:30 p.m., April 13, 2005.

Place: Omni Shoreham Hotel, Hampton Ballroom, 2500 Calvert Street, NW., Washington, DC 20008. Telephone: 202-234-0700.

Status: Open to the public, limited only by the space available. Those who wish to attend are encouraged to register with the contact person listed below. If you will require a sign language interpreter, or have other special needs, please notify the contact person by 4:30 e.s.t. on April 4, 2005.

Purpose: The Interagency Committee on Smoking and Health advises the Secretary, Department of Health and Human Services, and the Assistant Secretary for Health in the (a) coordination of all research and education programs and other activities within the Department and with other Federal, State, local and private agencies and (b) establishment and maintenance of liaison with appropriate private entities, Federal agencies, and State and local public health agencies with respect to smoking and health activities.

Matters to be Discussed: The agenda will focus on addressing the Global Tobacco Epidemic.

For Further Information Contact: Substantive program information as well as summaries of the meeting and roster of committee members may be obtained from the Internet at http://www.cdc.gov/tobacco in mid-May or from Ms. Monica L. Swann, Management and Program Analyst, Office on Smoking and Health, 200 Independence Avenue, SW., Suite 317B, Washington, DC 20201, (202) 205-8500.

Agenda items are subject to change as priorities dictate.

The Director, Management Analysis and Services Office, has been delegated the authority to sign Federal Register notices pertaining to announcements of meetings and other committee management activities, for both the Centers for Disease Control and Prevention and the Agency for Toxic Substances and Disease Registry.

Dated: March 18, 2005.
Alvin Hall,
Director, Management Analysis and Service Office, Centers for Disease Control and Prevention.

[FR Doc. 05-5913 Filed 3-24-05; 8:45 am]

BILLING CODE 4163-18-P